DEPARTMENT OF HEALTH AND HUMAN SERVICES

Centers for Disease Control and Prevention

[60Day-03-68]

Proposed Data Collections Submitted for Public Comment and Recommendations

In compliance with the requirement of section 3506(c)(2)(A) of the Paperwork Reduction Act of 1995 for opportunity for public comment on proposed data collection projects, the Centers for Disease Control and Prevention (CDC) will publish periodic summaries of proposed projects. To request more information on the proposed projects or to obtain a copy of the data collection plans and instruments, call the CDC Reports Clearance Officer on (404) 498-1210.

Comments are invited on: (a) Whether the proposed collection of information is necessary for the proper performance of the functions of the agency, including whether the information shall have practical utility; (b) the accuracy of the agency's estimate of the burden of the proposed collection of information; (c) ways to enhance the quality, utility, and clarity of the information to be collected; and (d) ways to minimize the burden of the collection of information on respondents, including through the use of automated collection techniques or other forms of information technology. Send comments to Dale Verell, CDC Assistant Reports Clearance Officer, 1600 Clifton Road, MS-D24, Atlanta, GA 30333. Written comments should be received within 60 days of this notice.

Proposed Project: Implementation of a Computer-Assisted Telephone Interview (CATI) System for the Pregnancy Risk Assessment Monitoring System (PRAMS),—New— National Center for Chronic Disease Prevention and Health Promotion (NCCDPHP), Centers for Disease Control and Prevention (CDC).

The Pregnancy Risk Assessment System (PRAMS) is part of the CDC initiative to reduce infant mortality and low birthweight and promote safe motherhood. PRAMS is a state-specific, population-based risk factor surveillance system of women who have recently delivered a live-born infant. PRAMS is designed to identify and monitor selected maternal experiences and behaviors that occur before and during pregnancy and during the child's early infancy. PRAMS is funded through cooperative agreements between CDC's Division of Reproductive Health (DRH) and participating state and local health departments. In 2003, 31 states and the city of New York (NYC) are funded by CDC to conduct PRAMS.

CDC is proposing to contract out for the development of a standard Computer-Assisted Telephone Interviewing (CATI) system that PRAMS programs can use for collecting telephone interview data. Sampled women are contacted by mail with telephone follow-up for nonrespondents. Approximately 15 percent of all interviews in each program's area (state or NYC) are conducted by telephone. CDC had provided funds for programs interested in using CATI technology to develop CATI systems for the telephone interviews. Some programs have developed their own CATI systems, while many continue to record telephone interviews on paper. The dual modes used and the variations in CATI systems developed by the PRAMS programs have created data management problems for PRAMS administrators at CDC. CDC cleans and weights the program data and provides each program with an analysis dataset. The variations in data files have resulted in backlogs in providing analysis datasets to PRAMS programs. The proposed CATI system will collect telephone interview data in a similar manner and consistent file layout across all PRAMS programs.

The new CATI system will also simplify the data collection process in the programs. As each woman is interviewed by telephone, the interviewer will directly record her responses into the CATI system. For programs still recording telephone interviews on paper, the CATI system will eliminate the extra step of keying the survey responses after the interview is completed. In addition, the CATI system will record operational information about successful call attempts which will assist programs in contacting women more efficiently. For CDC, receiving telephone interview data in a standardized format will simplify the data cleaning process and allow for provision of analysis datasets to programs in a more timely manner. There is no cost to respondents for completing the survey.

Respondents | Number of respondents | Number of responses per respondent | Average burden per response (in hrs.) | Total burden (in hrs.)
PRAMS Programs | 32 | 312.5 | 20/60 | 3,333
Total |  |  |  | 3,333

Dated: June 6, 2003.
Thomas A. Bartenfeld,
Acting Associate Director for Policy, Planning and Evaluation, Centers for Disease Control and Prevention.

[FR Doc. 03-14847 Filed 6-11-03; 8:45 am]

BILLING CODE 4163-18-P